SECURITIES AND EXCHANGE COMMISSION

[Release No. 34-43143; File No. SR-NYSE-00-29]

Self-Regulatory Organizations; Notice of Filing and Immediate Effectiveness of Proposed Rule Change by the New York Stock Exchange, Inc. Relating to Revisions to the Floor Conduct and Safety Guidelines

August 10, 2000.

Pursuant to Section 19(b)(1) of the Securities Exchange Act of 1934 (“Act”),¹ and Rule 19b-4 thereunder,² notice is hereby given that on July 27, 2000, the New York Stock Exchange, Inc. (“Exchange”) filed with the Securities and Exchange Commission (“Commission”) the proposed rule change as described in Items I, II and III below, which Items have been prepared by the Exchange. The Commission is publishing this notice to solicit comments on the proposed rule change from interested persons.

¹ 15 U.S.C. 78s(b)(1)

² 17 CFR 240.19b-4.

I. Self-Regulatory Organization's Statement of the Terms of Substance of the Proposed Rule Change

The proposed rule change consists of an amendment to the Exchange's Floor Conduct and Safety Guidelines (the “Guidelines”) with respect to policies and procedures on: employment of clerical personnel, entering or crossing the Trading Floor, surrender of Exchange-issued Visitor's passes, handling violations of the Guidelines, and harassment. The Guidelines are a “stated policy, practice or interpretation” concerned with the administration of Exchange Rules 35 and 37.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in Sections A, B, and C below, of the most significant aspects of such statements.

A. Self-Regulatory Organization's Statement of the Purpose of, and Statutory Basis for, the Proposed Rule Change

1. Purpose

The purpose of the Exchange's Guidelines is to ensure that the behavior and practices of individuals on the Floor of the Exchange contribute to the efficient, undisrupted conduct of business on the Floor and to not jeopardize the safety or welfare of others. The proposed rule change enables the Exchange to keep its Guidelines consistent with current and new Exchange policy and procedures.

a. Employment of Clerical Personnel

The proposed rule change provides that temporary floor employees are subject to the same registration and clearance requirements as all other Floor employees. The current standard applicable to temporary clerks employed less than six weeks, which requires obtaining an access control card for the period requested from the ID Card Office, has been deleted.

In addition, the proposed rule change provides that members and member organizations that permit an employee to work on the floor using a visitor's badge may also be subject to disciplinary action by the Exchange. Visitor's badges are not acceptable identification cards for temporary Floor employees. The above changes will conform the Guidelines to Exchange Rule 35. Failure to comply with the above requirements will subject the member or member organization to a $1,000 fine.

b. Entering or Crossing Trading Floor

The proposed rule change conforms the Guidelines to Exchange Rule 35.20. The latter states that “Floor employees of members and member organizations are not allowed to be upon or to cross the trading area of the Floor for any purpose during the period between ten minutes preceding the opening of the market and five minutes following the close of the market.” The current Guidelines permit Floor employees to be upon or to cross the trading area of the Floor during the period between fifteen (15) minutes prior to the opening and five (5) minutes after the close of business.

c. Surrender of Exchange-issued Visitor's Pass

The proposed amendments establish a single, consistent category of officials qualified to grant Floor access to visitors to include Officers of the Exchange, Senior Floor Officials, Floor Governors, and Floor Directors. “Senior Floor Officials” have been included since they are all former Floor Directors or Floor Governors.³ The current Guidelines require approval from either a Floor Director or a Governor in order for a visitor to gain access to the Floor between 10 a.m. and 3:30 p.m.

³ Under separate cover, the Exchange proposed an amendment of Rule 37 (“Visitors”) consistent with the above. See Securities Exchange Act Release No. 42990 (June 28, 2000), 65 FR 42052 (July 7, 2000).

In addition, the current Guidelines indicate that Members “should” accompany their guest throughout their entire visit to the Floor and “should avoid all active crowds.” The proposed amendments would require that a “Member or properly designated Listed Company Relations person or Customer Relations person must accompany them [visitors] throughout their visit taking particular care to avoid escorting them through highly active areas (including active crowds and fringe area of activity).”

The proposed amendment also adds a caveat to the Guidelines that failure to comply with them may subject a member to a fine or other disciplinary action.

An additional proposed amendment to the Guidelines indicates that 30 minutes prior to and after the opening and 30 minutes prior to closing, an Exchange Officer's or a Floor Director's (or Senior Floor Official or Floor Governor in Floor Directories' absence) approval must be obtained in order for visitors to be admitted to the Floor. The current Guidelines indicate that approval of a Floor Director or Senior Floor Governor in Floor Directors' absence is required to bring guests onto the Floor during this time period.

d. Procedures for Handling Violations

The proposed amendments clarify that the reporting of routine violations of the Guidelines should now be made to Market Surveillance via the White Phone or to the new Trading Floor Liaison Unit. The White Phones enable Floor Officials to directly contact management of Market Surveillance who can then expeditiously respond to requests for rule interpretations. The current Guidelines indicate that the Market Surveillance Division should be contacted by telephone to report the violation.

e. Exchange Policy Concerning Harassment

The proposed amendments reflect the broader Exchange policy concerning harassment adopted by the Exchange in December 1998. The current Guidelines discuss what behavior constitutes sexual harassment. The proposed amendment broadens the definition of harassment to include verbal or physical conduct that denigrates or shows hostility or aversion toward an individual based on the following characteristics: race, color, religion, sex, sexual orientation, national origin, age, disability, marital status, citizenship, predisposition to, or status as a carrier of, a genetic condition, or any other chacteristic protected by law. In addition, the harassment must (a) have the purpose or effect of creating an intimidating, hostile, or offensive work environment; (b) have the purpose or effect of unreasonably interfering with an individuals' work performance; or (c) otherwise adversely affect an individuals' employment.

The proposed amendments to the current Guidelines also prohibit retaliation against any person who makes a report of harassment or discrimination, or who participates in an investigation of such a report. Furthermore, the amended Guidelines would apply to all Exchange employees, other persons on Exchange premises (Exchange members), employees of Exchange members and member organizations who work on the Trading Floor, persons whose services are temporarily utilized by the Exchange, a member or member organization, and persons not directly related to the Exchange who may visit the trading Floor (i.e., a vendor, consultant, customer or guest.)

2. Statutory Basis

The Exchange believes that the basis under the Act for this proposed rule change is the requirement under Section 6(b)(5) ⁴ that an Exchange have rules that are designed to facilitate transactions in securities and remove impediments to and perfect the mechanism of a free and open market. The revisions to the Guidelines support these goals by promoting the efficient, undisrupted conduct of business on the Trading Floor.

⁴ 15 U.S.C. 78f(b)(5).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants or Others

The Exchange has neither solicited nor received written comments on the proposed rule change.

III. Date of Effectiveness of the Proposed Rule Change and Timing for Commission Action

This proposed rule change will take effect immediately on filing with the Commission pursuant to Section 19(b)(3)(A)(i) of the Act.⁵ This proposed rule change is a “stated policy, practice or interpretation” concerned with the administration of Exchange Rules 35 and 37. At any time within 60 days of the filing of such proposed rule change, the Commission may summarily abrogate such rule change if it appears to the Commission that such action is necessary or appropriate in the public interest, for the protection of investors or otherwise in furtherance of the purposes of the Act.

⁵ 15 U.S.C. 78s(b)(3)(A)(i).

IV. Solicitation of Comments

Interested persons are invited to submit written data, views and arguments concerning the proposed rule change. Persons making written submissions should file six copies thereof with the Secretary, Securities and Exchange Commission, 450 Fifth Street, NW., Washington, DC 20549. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room in 450 Fifth Street, NW., Washington, DC 20549-0609. Copies of such filing will also be available for inspection and copying at the principal office of the Exchange. All submissions should refer to File No. SR-NYSE-00-29 and should be submitted by September 7, 2000.

For the Commission, by the Division of Market Regulation, pursuant to delegated authority.⁶
⁶ 17 CFR 200.30-3(a)(12).
Margaret H. McFarland,
Deputy Secretary.

[FR Doc. 00-20884 Filed 8-16-00; 8:45 am]

BILLING CODE 8010-01-M